DEPARTMENT OF LABOR

Employment and Training Administration

[TA-W-38, 725]

Ametek/Dixson, Grand Junction, Colorado; Including Temporary Workers of SOS Staffing Services, Inc. Employed at Ametek/Dixson Grand Junction, Colorado; Amended Certification Regarding Eligibility To Apply for Worker Adjustment Assistance

In accordance with section 223 of the Trade Act of 1974 (19 USC 2273) the Department of Labor issued a Certification of Eligibility to Apply for Worker Adjustment Assistance on April 17, 2001, applicable to workers of Ametek/Dixson, Grand Junction, Colorado. The notice was published in the Federal Register on May 3, 2001 (66 FR 22262).

At the request of the State agency, the Department reviewed the certification for workers of the subject firm. New information provided by the company shows that some employees of Ametek/Dixson were temporary workers from SOS Staffing Services, Inc., employed to produce instrumentation for trucks at the Grand Junction, Colorado location of Ametek/Dixson.

Based on these findings, the Department is amending the certification to include temporary workers of SOS Staffing Services, Inc., Grand Junction, Colorado leased to Ametek/Dixson, Grand Junction, Colorado.

Accordingly, the Department is amending the certification to properly reflect this matter.

The amended notice applicable to TA-W-38, 725 is hereby issued as follows:

All workers of Ametek/Dixson, Grand Junction, Colorado including temporary of SOS Staffing Services, Inc., Grand Junction, Colorado, engaged in the production of instrumentation for trucks for Ametek/Dixson, Grand Junction, Colorado who became totally or partially separated from employment on or after February 9, 2000, through April 17, 2003, are eligible to apply for adjustment assistance under section 223 of the Trade Act of 1974.

Signed at Washington, DC, this 12th day of June, 2001.
Edward A. Tomchick,
Director, Division of Trade Adjustment Assistance.

[FR Doc. 01-16163 Filed 6-26-01; 8:45 am]

BILLING CODE 4510-30-M